DEPARTMENT OF TRANSPORTATION

Federal Highway Administration

Environmental Impact Statement: San Juan County, WA

AGENCY: Federal Highway Administration (FHWA), DOT; National Park Service (NPS), DOI.

ACTION: Notice of Intent.

SUMMARY: The FHWA and NPS are issuing this notice to advise the public, interested groups, and affected agencies that an environmental impact statement will be prepared for a proposed road project in San Juan Island National Historical Park (Park), San Juan County, Washington.

FOR FURTHER INFORMATION CONTACT: Andrew Rasmussen [E-mail: Andrew.Rasmussen@fhwa.dot.gov], Staff Environmental Engineer, FHWA, 610 East Fifth Street, Vancouver, Washington 98661. Telephone: (360)-619-7899, or Peter Dederich [E-mail: peter_dederich@nps.gov], Park Superintendent, P.O. Box 429, 125 Spring Street, Friday Harbor, WA 98250.

SUPPLEMENTARY INFORMATION: The FHWA and NPS will prepare an environmental impact statement (EIS) on a proposal to address on-going and potentially catastrophic road failure on Cattle Point Road. The FHWA and NPS will work in cooperation with San Juan County (County) and the Washington State Department of Natural Resources (DNR) as the road is currently maintained by the County and the DNR manages a Natural Resource Conservation Area (NRCA) in the proposed project vicinity.

The proposed project is located at the American Camp unit of San Juan Island National Historic Park in San Juan County, WA. The American Camp unit encompasses much of the southern tip of San Juan Island, known as Cattle Point. The area of concern is within the Park, where a portion of Cattle Point Road is located on top of a steep bluff along the shore of the Strait of Juan de Fuca.

The purpose of this project is to ensure that vehicular and pedestrian access to the San Juan Island National Historical Park and land outside the Park on Cattle Point will continue in a manner that provides a safe and pleasurable experience for the public yet minimizes or avoids impacts to the Park, NRCA, and the island environment.

Coastal wind and wave action are eroding the base of the slope that supports the Cattle Point Road. If erosion continues unabated, the roadway may fail and severely impact vehicular and non-motorized access to the Cattle Point area of San Juan Island. Alternative road alignments and various engineering concepts need to be explored to address these road integrity and resource protection problems. Design concepts need to be measured against environmental concerns so as to articulate the natural, cultural, scenic and socio-economic effects for implementing any one of the alternatives to be studied. The preferred alternative must also be consistent with the adopted land management plans of the Park and NRCA, if nearby Washington State Department of Natural Resource lands are affected. As required in the National Environmental Policy Act (NEPA), a No Action alternative will also be identified and evaluated.

The proposed project could involve reconstruction of the existing road and, in some areas, possibly construction on new alignment. Alternatives that may address the potential failure include the following: (1) Address slope stability for the road on or near the existing alignment, possibly through the use of extensive retaining walls, though this may not provide a long-term solution; (2) Realign the road to the north of the existing road which would move the road away from the shoreline (this includes options of moving the roadway part-way up the slope, to the crest of the hill, or to the protected north slope of the hill); or (3) Use a tunnel into the hill or bridging system near the current alignment, but moving into the slope to provide a long-term solution. Alternative 1 may not address the problem for the long term, while 2 and 3 would. Variations of grade and alignment will be evaluated for adequacy in meeting Park design and transportation needs, public concerns, and protect the area's cultural resources, natural and social environment.

Announcements describing the proposed action and soliciting comments will be sent to appropriate Federal, State, and local agencies. These will also be sent to private organizations and citizens who have previously expressed or are known to have interest in this proposal, as well as to local and regional press media.

The County initiated scoping in a previous effort, including studies, a public meeting, and report. In the past year, this proposed project has been reclassified and is now being developed as part of the Park Roads and Parkways category of the FHWA Federal Lands Highway Program (FLHP), which is financed by the Federal Highway Trust Fund. Owing to the changed status of the proposed project, broadened scope, and subsequent resource protection concerns, the agencies determined that the initial scoping effort was inadequate. Future public scoping will incorporate the results of the County's past scoping efforts, including public feedback from the public meeting previously held. A subequent public scoping meeting will be held February 18th, 2004 on San Juan Island, with follow up meetings as necessary. Public notices will be issued announcing the time(s) and location(s) of the meeting(s).

Comments: It is important that the full range of issues related to this proposed action are addressed and that all significant issues are identified. To ensure this, comments and suggestions are invited from all interested parties. Comments and questions regarding the proposal or scoping sessions should be addressed to: Andrew Rasmussen [E-mail: Andrew.Rasmussen@fhwa.dot.gov], Staff Environmental Engineer, FHWA, 610 East Fifth Street, Vancouver, Washington 98661. Telephone: (360)-619-7899.

All previous responses are maintained in the project administrative files and will continue to be considered. Persons wishing to express any new concerns about management issues and future land management direction are encouraged to address these to: Peter Dederich [E-mail: peter_dederich@nps.gov], Park Superintendent, P.O. Box 429, 125 Spring Street, Friday Harbor, WA 98250. Telephone: (360)-378-2240.

All comments must be postmarked or transmitted no later than March 19, 2004. A public workshop to hear comments and suggestions will be conducted at the San Juan Senior Center, in Mullis Center, 589 Nash Street, Friday Harbor, WA on February 18, 2004 from 1-3 p.m. and 7-9 p.m.

If individuals submitting comments request that their name and/or address be withheld from public disclosure, it will be honored to the extent allowable by law. Such requests must be stated prominently in the beginning of the comments. There also may be circumstances wherein the FHWA or Park will withhold a respondent's identity as allowable by law.

The Federal Highway Administration and National Park Service will make available to public inspection all submissions from organizations or businesses and from persons identifying themselves as representatives or officials of organizations and businesses. Anonymous comments may not be considered.

Decision: Officials responsible for the final decision are Jonathan B. Jarvis, Regional Director, Pacific West Region, National Park Service, and Ronald W. Carmichael, Division Engineer, Western Federal Lands Highway Division, Federal Highway Administration.

(Catalog of Federal Domestic Assistance Program Number 20.205, Highway Research, Planning and Construction. The regulations implementing Executive Order 12372 regarding intergovernmental consultation on Federal programs and activities apply to this program.)

Authority: 23 U.S.C. 315; 49 CFR 1.48

Issued on: January 29, 2004.
Dated: January 29, 2004.
Arthur E. Eck,
Deputy Regional Director, Pacific West Region, National Park Service.
Dated: January 29, 2004.
Ricardo Suarez,
Acting Division Engineer, Western Federal Lands Highway Division, Federal Highway Administration.

[FR Doc. 04-2562 Filed 2-5-04; 8:45 am]

BILLING CODE 4910-22-P